DEPARTMENT OF ENERGY

Energy Information Administration

Agency Information Collection Extension

AGENCY: U.S. Energy Information Administration (EIA), U.S. Department of Energy (DOE).

ACTION: Notice.

SUMMARY: EIA submitted an information collection request for extension as required by the Paperwork Reduction Act of 1995. The information collection requests a three-year extension with no changes of Form NWPA-830G, “Standard Contract for Disposal of Spent Nuclear Fuel and/or High-Level Radioactive Waste,” Appendix G, under OMB Control Number 1901-0260. Form NWPA-830G, “Appendix G—Standard Remittance Advice for Payment of Fees” (including Annex A to Appendix G), which is part of the Standard Contract collects information concerning a company's quarterly payments into the Nuclear Waste Fund of ongoing fees for spent nuclear fuel disposal. Form NWPA-830G, is a mandatory form that serves as the source document for entries into DOE accounting records to transmit data from purchasers to DOE concerning payment of the Spent Nuclear Fuel Disposal Fee into the Nuclear Waste Fund. Although the Department of Energy determined that, effective May 16, 2014, the Spent Nuclear Fuel Disposal Fee is 0.0 mills per kWh, it has (through its Office of the General Counsel) directed EIA to continue activities associated with the collection and verification of net electricity generation data and estimation of the spent nuclear fuel disposal fees that would otherwise accrue from this generation.

DATES: Comments on this information collection must be received no later than November 15, 2018. If you anticipate any difficulties in submitting your comments by the deadline, contact the DOE Desk Officer at 202-395-4718.

ADDRESSES: Written comments should be sent to

DOE Desk Officer: Brandon Debruhl, Office of Information and Regulatory Affairs, Office of Management and Budget, New Executive Office Building, Room 10102, 735 17th Street NW, Washington, DC 20503, Email: Brandon_F_DeBruhl@omb.eop.gov

and to

Michael Scott, U.S. Department of Energy, U.S. Energy Information Administration, 1000 Independence Ave. SW, Washington, DC 20585, Michael.Scott@eia.gov.

FOR FURTHER INFORMATION CONTACT: Michael Scott, (202) 586-0253, email Michael.Scott@eia.gov. Form NWPA-830G, “Appendix G—Standard Remittance Advice for Payment of Fees,” may be accessed from this URL: https://www.eia.gov/survey/form/nwpa_830g/proposed/2019/appendix_g.pdf, and Annex A to Appendix G from the URL below: https://www.eia.gov/survey/form/nwpa_830g/proposed/2019/annex_a_appendix_g.pdf.

SUPPLEMENTARY INFORMATION:

This information collection request contains:

(1) OMB No. 1901-0260;

(2) Information Collection Request Title: Form NWPA-830G, Standard Contract for Disposal of Spent Nuclear Fuel and/or High-Level Radioactive Waste, Appendix G;

(3) Type of Request: Three-year extension;

(4) Purpose: Form NWPA-830G, is the source document for entries into DOE accounting records to transmit data from purchasers to DOE concerning payment of the Spent Nuclear Fuel Disposal Fee into the Nuclear Waste Fund. Appendix G collects payment data based on a utility's net electricity generated and sold. 15 U.S.C. 772(b) provides that EIA may require all persons owning or operating facilities or business premises who are engaged in any phase of energy supply or major energy consumption to make available to the Administrator such information and periodic reports, records, documents, and other data, relating to the purposes of this Act, including full identification of all data and projections as to source, time and methodology of development.

The Nuclear Waste Policy Act of 1982 (42 U.S.C. 10101 et seq.) required that DOE enter into Standard Contracts with all generators or owners of spent nuclear fuel and high-level radioactive waste of domestic origin. Form NWPA-830G Appendix G—Standard Remittance Advice for Payment of Fees, including Annex A to Appendix G, is an Appendix to this Standard Contract. Appendix G and Annex A to Appendix G are commonly referred to as Remittance Advice (RA) forms. RA forms must be submitted quarterly by generators and owners of spent nuclear fuel and high-level radioactive waste of domestic origin who signed the Standard Contract. Appendix G is designed to serve as the source document for entries into DOE accounting records to transmit data to DOE concerning payment of fees into the Nuclear Waste Fund for spent nuclear fuel and high-level waste disposal. Annex A to Appendix G is used to provide data on the amount of net electricity generated and sold, upon which these fees are based.

(5) Annual Estimated Number of Respondents: 99;

(6) Annual Estimated Number of Total Responses: 396;

(7) Annual Estimated Number of Burden Hours: 1,980;

(8) Annual Estimated Reporting and Recordkeeping Cost Burden: The cost of burden hours to the respondents is estimated to be $149,866 (1,980 burden hours times $75.69 per hour). EIA estimates that there are no additional costs to respondents associated with the survey other than the costs associated with the burden hours.

Statutory Authority: 42 U.S.C. 10222 and 15 U.S.C. 772(b).

Issued in Washington, DC, on September 19, 2018.
Nanda Srinivasan,
Director, Office of Survey Development and Statistical Integration, U.S. Energy Information Administration.

[FR Doc. 2018-22481 Filed 10-15-18; 8:45 am]

BILLING CODE 6450-01-P